NATIONAL SCIENCE FOUNDATION

Committee Management; Renewals

The NSF management officials having responsibility for the advisory committees listed below determined that renewing these groups for another two years is necessary and in the public interest in connection with the performance of duties imposed upon the Director, National Science Foundation (NSF) by 42 U.S.C. 1861 et seq. The committees will be renamed (the previous name is in parenthesis). The committee number is the stay the same. This determination following consultation with the Committee Management Secretariat, General Services Administration.

1. #1209—Proposal Review Panel for Polar Programs (Special Emphasis Panel in Polar Programs).

2. #1185—Proposal Review Panel for Advanced Computational Infrastructure and Research (Special Emphasis Panel in Advanced Computational Infrastructure and Research).

3. #1207—Proposal Review Panel for Advanced Networking and Infrastructure Research (Special Emphasis Panel in Advanced Networking and Infrastructure Research).

4. #1192—Proposal Review Panel for Computer—Communications Research (Special Emphasis Panel in Computing—Communications Research).

5. #1193—Proposal Review Panel for Experimental and Integrative Activities (Special Emphasis Panel in Experimental and Integrative Activities).

6. #1200—Proposal Review Panel for Information and Intelligent Systems (Special Emphasis Panel in Information and Intelligent Systems).

7. #1186—Proposal Review Panel for Astronomical Sciences (Special Emphasis Panel in Astronomical Sciences).

8. #1191—Proposal Review Panel for Chemistry (Special Emphasis in Chemistry).

9. #1203—Proposal Review Panel for Materials Research (Special Emphasis Panel in Materials Research).

10. #1204—Proposal Review Panel for Mathematical Sciences (Special Emphasis Panel in Mathematical Sciences).

11. #1208—Proposal Review Panel for Physics (Special Emphasis Panel in Physics).

12. #57—Proposal Review panel for Graduate Education (Special Emphasis Panel in Graduate Education).

13. #1214—Proposal Review panel for Undergraduate Education (Special Emphasis Panel in Undergraduate Education).

14. #1198—Proposal Review Panel for Experimental Programs to Stimulate Competitive (Special Emphasis Panel in Experimental Programs to Stimulate Competitive).

15. #59—Proposal Review Panel for Elementary, Secondary, and Informal Education (Special Emphasis Panel in Elementary, Secondary, and Informal Education).

16. #1765—Proposal Review Panel for Educational Systemic Reform (Special Emphasis Panel in Educational Systemic Reform).

17. #1199—Proposal Review Panel for Human Research Development (Special Emphasis Panel in Human Research Development).

18. #1210—Proposal Review Panel for Research, Evaluation, and Communication (Special Emphasis Panel in Research, Evaluation, and Communication).

19. #1189—Proposal Review Panel for Bioengineering and Environmental Systems (Special Emphasis Panel in Bioengineering and Environmental Systems).

10. #1205—Proposal Review Panel for Civil and Mechanical Systems (Special Emphasis Panel in Civil and Mechanical Systems).

21. #1190—Proposal Review Panel for Chemical and Transport Systems (Special Emphasis Panel in Chemical and Transport Systems).

22. #1194—Proposal Review Panel for Design, Manufacture, and Industrial Innovation (Special Emphasis Panel in Design, Manufacture, and Industrial Innovation).

23. #1196—Proposal Review Panel for Electrical and Communications Systems (Special Emphasis Panel in Electrical and Communication Systems).

24. #173—Proposal Review Panel for Engineering Education and Centers (Special Emphasis Panel in Engineering Education and Centers).

Effective date for renewal is July 1, 2002. For more information, please contact Susanne Bolton, NSF, at (703) 292-7488.

Dated: June 28, 2002.
Susanne Bolton,
Committee Management Officer.

[FR Doc. 02-16726 Filed 7-2-02; 8:45 am]

BILLING CODE 7555-01-M